DEPARTMENT OF COMMERCE

National Oceanic and Atmospheric Administration

[RTID 0648-XD047]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 148th Scientific and Statistical Committee (SSC) and its 195th Council meeting to take actions on fishery management issues in the Western Pacific Region. The Council will also hold meetings of the following advisory groups and standing committees: American Samoa Advisory Panel (AP); Fishing Industry Advisory Committee (FIAC); American Samoa Regional Ecosystem Advisory Committee (REAC); American Samoa Standing Committee (SC); and Executive and Budget SC.

DATES: The meetings will be held between June 14 and June 29, 2023. For specific times and agendas, see SUPPLEMENTARY INFORMATION.

ADDRESSES: The 148th SSC meeting will be held in a hybrid format with in-person and remote participation (Webex) options available for SSC members and the public. In-person attendance will be hosted at the Council office, 1164 Bishop Street, Suite 1400, Honolulu, HI 96813.

The American Samoa and Executive and Budget SC meetings, and the American Samoa REAC meeting will be held in-person at the Sadie's by the Sea Conference Room, Utulei Beach, Route 1, Pago Pago, American Samoa, phone: (684) 633-5900.

The FIAC meeting will be held in a hybrid format with in-person and remote participation (Webex) options available for FIAC members and the public. The in-person portion of the FIAC meeting will be held at Tauese P. F. Sunia Ocean Center, Utulei, American Samoa, 96799.

The American Samoa AP meeting will be held will be held in a hybrid format with in-person remote participation (Webex) options available for AP members and the public. In-person attendance will be hosted at the Flying Fox Gastropub, Pavaiai, American Samoa, 96799.

The 195th Council Meeting will be held as a hybrid meeting for Council members and public, with remote participation option available via Webex. The in-person portion of the 195th Council meeting and Fishers Forum will be held at Governor H. Rex Lee Auditorium (Fale Laumei), Utulei, American Samoa, phone: (684) 633-5155.

Specific information on joining the meeting, connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The 148th SSC meeting will be held between 9 a.m. and 5 p.m. Hawaii Standard Time (HST) on June 14, 10 a.m. and 5 p.m. HST on June 15, and 9 a.m. and 12 p.m. on June 16, 2023. The American Samoa SC meeting will be held between 10 a.m. and 12 p.m. Samoan Standard Time (SST) on June 22, 2023. The Executive and Budget SC meeting will be held between 9 a.m. and 12 p.m. SST on June 23, 2023. The portion of the Executive and Budget SC from 11:30 a.m. to 12 p.m. will be closed to the public for employment matters in accordance with section 302(i)(3) of the Magnuson-Stevens Fishery Conservation and Management Act (MSA). The American Samoa REAC meeting will be held between 1 p.m. and 4 p.m. SST on June 23, 2023. The FIAC meeting will be held between 1 p.m. and 5 p.m. SST on June 23, 2023. The American Samoa AP meeting will be held between 1 p.m. and 4 p.m. SST on June 24, 2023. The 195th Council Meeting will be held between 9:30 a.m. and 5 p.m. SST on June 27, 8:30am and 5 p.m. SST on June 28, and 8:30 a.m. and 12 p.m. SST on June 29, 2023. The Fishers Forum will be held between 6 p.m. and 9 p.m. SST on June 27, 2023. Public Comment on Non-Agenda Items will be held between 4:30 p.m. and 5 p.m. SST on June 27, 2023.

Please note that the evolving public health situation regarding COVID-19 may affect the conduct of the June Council and its associated meetings. At the time this notice was submitted for publication, the Council anticipated convening the Standing Committee meetings as an in-person meeting only, and the Council meeting as an in-person meeting with a web conference attendance option. If public participation options will be modified, the Council will post notice on its website at www.wpcouncil.org by, to the extent practicable, five calendar days before each meeting.

Agenda items noted as “Final Action” refer to actions that may result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 195th Council meeting will be available at www.wpcouncil.org. Written public comments on final action items at the 195th Council meeting should be received at the Council office by 5 p.m. HST, Thursday, June 22, 2023, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Agenda for the 148th SSC Meeting

Wednesday, June 14, 2023, 9 a.m. to 5 p.m. HST

1. Introductions

2. Approval of Draft Agenda and Assignment of Rapporteurs

3. Status of the 147th SSC Meeting Recommendations

4. Pacific Islands Fisheries Science Center Director Report

5. Island Fisheries

A. American Samoa Bottomfish Management Unit Species (BMUS)

1. American Samoa BMUS WPSAR Report

2. American Samoa BMUS Benchmark Stock Assessment Report

3. American Samoa Fishery Ecosystem Plan (FEP) Amendment for BMUS Revision (Action Item)

B. Commonwealth of the Northern Mariana Islands (CNMI) BMUS Acceptable Biological Catch (ABC) Specification for 2024-2025 (Action Item)

C. Main Hawaiian Islands (MHI) Kona Crab ABC Specification for 2024-2026 (Action Item)

D. Uku Essential Fish Habitat Revision Options Paper (Action Item)

E. Public Comment

F. SSC Discussion and Recommendations

6. Protected Species

A. Hawaii Deep-Set and American Samoa Longline Fishery Final Biological Opinions (BiOps)

1. Overview of the Final BiOps

2. Implementation of Reasonable and Prudent Measures

B. False Killer Whale Issues

1. New Approach for Insular False Killer Whale Abundance Estimates

2. Update on the New Assessment Approach for Hawaii Pelagic False Killer Whales

3. False Killer Whale Take Reduction Team Meeting Report

C. Public Comment

D. SSC Discussion and Recommendations

Thursday, June 15, 2023, 10 a.m. to 5 p.m. HST

7. Program Planning

A. Review of the National Standard 1 Draft Guidance on Biomass Proxies

B. Review of National Standards 4, 8 and 9

C. 2022 Annual Stock Assessment and Fisheries Evaluation (SAFE) Report and Recommendations

1. Archipelagic and Pelagic Report Highlights

2. Archipelagic Report Recommendations

3. Pelagic Report Recommendations

D. Review of Research Priorities

1. Cooperative Research

2. Updating the Council's Pelagic Fisheries Research Plan

E. Public Comment

F. SSC Discussion and Recommendations

8. Pelagic and International Fisheries

A. Update on Proposed Sanctuaries in the Pacific Remote Island Areas (PRIA) & Northwest Hawaiian Islands

B. The Pacific Community (SPC) Pre-Assessment Workshop

C. South Pacific Albacore Inter-Sessional Working Group

D. 2nd Western and Central Pacific Ocean (WCPO) Longline Management Workshop

E. Western & Central Pacific Fisheries Commission (WCPFC) Tropical Tuna Scientific Requests

F. Inter-American Tropical Tuna Commission (IATTC) Science Advisory Committee

G. Public Comment

H. SSC Discussion and Recommendations

Friday, June 16, 2023, 9 a.m. to 12 p.m. HST

9. Other Business

A. September 2023 SSC Meetings Dates

10. Summary of SSC Recommendations to the Council

Agenda for the American Samoa SC Meeting

Thursday, June 22, 2023, 10 a.m. to 12 p.m. SST

1. Welcome and Introductions

2. Draft 2022 American Samoa Annual SAFE Report Module

3. American Samoa Bottomfish

a. Stock Assessment WPSAR Report

b. 2023 Benchmark Stock Assessment

c. Management Unit Species Revision

4. Equity and Environmental Justice

5. American Samoa Sea Turtles

6. Fagatele Marine and PRIA Sanctuaries

7. Report on Rose Monument

8. Advisory Group Reports and Recommendations

9. Other Business

10. Public Comment

11. Discussion and Recommendations

Agenda for the Executive and Budget SC Meeting

Friday, June 23, 2023, 9 a.m. to 12 p.m. SST (11:30 a.m. to 12 p.m. Closed)

1. Financial Reports

2. Administrative Reports

3. Pelagic Research Plan

4. Council Family Changes

5. Meetings and Workshops

A. Council Coordination Committee (CCC) Meeting Report

B. Deputy Director/Senior Staff Meeting Report

C. Schedule of Upcoming Meeting

6. Other Business

7. Public Comment

8. Discussion and Recommendations

9. Closed Session on Employment Matters—Pursuant to MSA Section 302(i)(3)

Agenda for the American Samoa REAC Meeting

Friday, June 23, 2023, 1 p.m. to 4 p.m. SST

1. Welcome and Introductions

2. About the American Samoa REAC

3. American Samoa Fishery Ecosystem Issues

a. Climate Change and Fisheries

i. Current American Samoa Fishery Stock Status

ii. President Biden's Ocean Climate Action Plan

iii. Climate Change in American Samoa

b. American Samoa Bottomfish

i. Stock Assessment and Status

ii. Developing Catch Limits

4. American Samoa Conservation Issues

a. Sand Mining in American Samoa

b. American Samoa Shark Issues

c. Report on Equity and Environmental Justice

d. Proposed PRIA National Marine Sanctuary

e. Discussion on Equity and Environmental Justice

f. Update on Fishery Development

i. Status of Super-Alia

ii. Sustainable Fisheries Projects

5. Public Comment

6. Discussion and Recommendations

7. Other Business

Agenda for the FIAC Meeting

Friday, June 23, 2023, 1 p.m. to 5 p.m. SST

1. Welcome and Introductions

2. Status Report on Previous FIAC Recommendations

3. Roundtable Update on Fishing/Market Issues/Impacts

4. Update on Hawaii Shortline Fishery Paper

5. False Killer Whale Take Reduction Team

6. Final Deep-Set & American Samoa Longline BiOps

7. Proposed Sanctuary Around the PRIA

8. Workshops on WCPFC Tropical Tunas

9. American Samoa-Based U.S. Purse Seine Fishery

A. Updates From the Fleet

B. Overview of American Samoa Cannery Operations

10. American Samoa Longline Fishery

A. 2022-2023 Performance of the American Samoa Longline Fishery

B. WCPFC South Pacific Albacore Fishery Issues & Workplans

C. Impacts of Reducing American Samoa Large Vessel Prohibited Area

11. American Samoa Cost-Earnings Survey & Economic Analyses

12. American Samoa Bottomfish Update

13. American Samoa Fishing Industry Roundtable Discussion: Non-Members

14. Other Issues

15. Public Comment

16. Discussion and Recommendations

Agenda for the American Samoa AP Meeting

Saturday, June 24, 2023, 1 p.m. to 4 p.m. SST

1. Welcome and Introductions

2. Review of the Last AP Recommendations and Meetings

3. Feedback From the Fleet

A. American Samoa Fishermen Observations

B. AP Fishery Issues and Priorities

3. American Samoa Fishery Issues and Activities

A. 2022 Annual SAFE Report—American Samoa Module

B. American Samoa Bottomfish Stock Assessment WPSAR Report

C. 2023 Benchmark American Samoa Bottomfish Stock Assessment

D. Bottomfish Management Unit Species Revision

E. Final BiOp for the American Samoa Longline Fishery and Next Steps

4. Research Priorities

A. MSA Five-Year Research Priorities Review

B. Cooperative Research

5. Other Business

6. Public Comment

7. Discussion and Recommendations

Agenda for the 195th Council Meeting

Tuesday, June 27, 2023, 9:30 a.m. to 5 p.m. SST

1. Welcome and Introductions

2. Opening Protocol

3. Opening Remarks

4. Approval of the 195th CM Agenda

5. Approval of the 194th CM Meeting Minutes

6. Executive Director's Report

7. Agency Reports

A. National Marine Fisheries Service

1. Pacific Islands Regional Office

2. Pacific Islands Fisheries Science Center

B. NOAA Office of General Counsel Pacific Islands Section

C. Enforcement

1. U.S. Coast Guard

2. NOAA Office of Law Enforcement

3. NOAA Office of General Counsel Enforcement Section

D. U.S. State Department

E. U.S. Fish and Wildlife Service

F. Public Comment

G. Council Discussion and Action

8. American Samoa Archipelago

A. Motu Lipoti

B. Department of Marine and Wildlife Resources Report

C. 2022 American Samoa FEP Annual SAFE Report

D. 2022 Pelagic Annual SAFE Report—American Samoa Module

E. American Samoa Bottomfish

1. American Samoa Bottomfish Stock Assessment WPSAR Report

2. 2023 Benchmark American Samoa Bottomfish Stock Assessment

3. American Samoa FEP Bottomfish Management Unit Species Revision Amendment (Initial Action)

F. Advisory Group Report and Recommendations

1. Advisory Panel

2. Fishing Industry Advisory Committee

3. American Samoa REAC

4. Archipelagic Plan Team

5. Pelagic Plan Team

6. Social Science Planning Committee

7. Scientific & Statistical Committee

8. American Samoa Archipelago Standing Committee

G. Public Comment

H. Council Discussion and Action

9. Protected Species

A. Hawaii Deep-Set and American Samoa Longline Fishery Final BiOps

1. Overview of the Final BiOps

2. Implementation Plans for the BiOp Reasonable and Prudent Measures

B. False Killer Whale Take Reduction Team Meeting Report

C. Endangered Species Act and Marine Mammal Protection Act Updates

D. Advisory Group Report and Recommendations

1. Advisory Panel

2. Fishing Industry Advisory Committee

3. American Samoa REAC

4. Archipelagic Plan Team

5. Pelagic Plan Team

6. Scientific & Statistical Committee

E. Public Comment

F. Council Discussion and Action

Tuesday, June 27, 2023, 4:30 p.m. to 5 p.m. SST

Public Comment on Non-Agenda Items

Tuesday, June 27, 2023, 6 p.m. to 9 p.m. SST

Fishers Forum: Rising Tides and Changing Times

Wednesday, June 28, 2023, 8:30 a.m. to 5 p.m. SST

10. Program Planning and Research

A. National Legislative Report

B. Research Priorities

1. MSA Five-Year Research Priorities Review

2. Cooperative Research Review

C. National Standards Guidance and Review

1. National Standard 1 Reference Points Guidance

2. National Standards 4, 8, and 9 Advanced Notice of Proposed Rulemaking

D. Regional Communications & Outreach Report

E. Advisory Group Report and Recommendations

1. Advisory Panel

2. Fishing Industry Advisory Committee

3. American Samoa REAC

4. Archipelagic Plan Team

5. Pelagic Plan Team

6. Social Science Planning Committee

7. Non-Commercial Fisheries Advisory Committee

8. Federal Data Coordination and Research Committee

9. Scientific & Statistical Committee

G. Public Comment

H. Council Discussion and Action

11. Hawaii Archipelago & PRIA

A. Moku Pepa

B. Department of Land and Natural Resources/Division of Aquatic Resources Report

C. 2022 Hawaii Archipelago FEP Annual SAFE Report

D. Kona Crab

1. Specifying Annual Catch Limits for Kona Crab (Final Action)

2. MHI Kona Crab Status Determination Criteria (Final Action)

E. Options for Revising Uku Essential Fish Habitat (Initial Action)

F. Status Report on the Monument Expansion Area and Proposed PRIA Sanctuary

G. Advisory Group Report and Recommendations

1. Advisory Panel

2. Archipelagic Plan Team

3. Pelagic Plan Team

4. Fishing Industry Advisory Committee

5. Social Science Planning Committee

6. Scientific & Statistical Committee

H. Public Comment

I. Council Discussion and Action

12. Mariana Archipelago

A. Guam

1. Department of Agriculture/Division of Aquatic & Wildlife Resources Report

2. Isla Informe

3. Review of Guam Marine Conservation Plan (Action Item)

4. 2022 Annual SAFE Report-Guam Module

B. CNMI

1. Arongol Falú

2. Department of Land and Natural Resources/Division of Fish and Wildlife Report

3. Options for CNMI Bottomfish Annual Catch Limits (Final Action)

4. 2022 Annual SAFE Report-CNMI Module

C. Advisory Group Report and Recommendations

1. Advisory Panel

2. Archipelagic Plan Team

3. Pelagic Plan Team

4. Fishing Industry Advisory Committee

5. Scientific and Statistical Committee

D. Public Comment

E. Council Discussion and Action

Thursday, June 29, 2023, 8:30 a.m. to 12 p.m. SST

13. Pelagic & International Fisheries

A. 2022 Pelagic and PRIA Annual SAFE Report

B. International Fisheries Issues

1. 2nd WCPO Longline Management Workshop

2. WCPFC South Pacific Albacore Working Group

3. US Permanent Advisory Committee to the WCPFC

4. IATTC Science Advisory and General Advisory Committees

C. Council Pelagic Fisheries Research Plan

D. Advisory Group Report and Recommendations

1. Advisory Panel

2. Fishing Industry Advisory Committee

3. American Samoa REAC

4. Pelagic Plan Team

5. Social Science Planning Committee

6. Scientific & Statistical Committee

E. Public Comment

F. Council Discussion and Action

14. Administrative Matters

A. Financial Reports

B. Administrative Reports

C. Council Family Changes

D. Meetings and Workshops

E. CCC Meeting Report

F. Executive and Budget Standing Committee Report

G. Public Comment

H. Council Discussion and Action

15. Other Business

Non-emergency issues not contained in this agenda may come before the Council for discussion and formal Council action during its 195th meeting. However, Council action on regulatory issues will be restricted to those issues specifically listed in this document and any regulatory issue arising after publication of this document that requires emergency action under section 305(c) of the MSA, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 22, 2023.
Rey Israel Marquez,
Acting Deputy Director, Office of Sustainable Fisheries, National Marine Fisheries Service.

[FR Doc. 2023-11216 Filed 5-24-23; 8:45 am]

BILLING CODE 3510-22-P